DEPARTMENT OF HEALTH AND HUMAN SERVICES

Centers for Disease Control and Prevention

Unrealized Opportunities for Clinical Prevention Practices

Announcement Type: New.

Funding Opportunity Number: AA060.

Catalog of Federal Domestic Assistance Number: 93.283.

Key Dates: Letter of Intent Deadline: July 25, 2005.

Application Deadline: August 12, 2005.

I. Funding Opportunity Description

Authority: This program is authorized under the section 317 (k)(2) of the Public Health Service Act [42 U.S.C. sections 247b (k)(2)] as amended.

Purpose: The purpose of the program is to address unrealized opportunities for clinical prevention practices by stimulating innovative partnerships and strategies between the private health care sector and public health through collaborative efforts with national organizations and their affiliated members. This program addresses the “Healthy People 2010” focus areas of heart disease and stroke, immunization and infectious diseases, physical activity and fitness, nutrition and overweight, public health infrastructure, tobacco use and overarching disease prevention, health promotion and preparedness goals.

Measurable outcomes of the program will be in alignment with one or more of the following performance goal(s) for the Division of Private and Public Partnerships: (a) Develops strategies and innovative solutions for the health care sector and CDC partners; (b) identifies and provides services, resources, and customer-specific materials; (c) create opportunities for collaboration with healthcare delivery system stakeholders and public health, including public health preparedness and communication.

This announcement is only for non-research activities supported by CDC/ATSDR. If research is proposed, the application will not be reviewed. For the definition of research, please see the CDC web site at the following Internet address: http://www.cdc.gov/od/ads/opspoll1.htm.

Activities: Awardee activities for this program are as follows: Awardee will propose activities to address unrealized prevention and health promotion opportunities.

The applicant must consider sub-populations affected by racial/ethnic disparities in health status, risk factors and/or receipt of health services (Institute of Medicine, Unequal Treatment: Confronting Racial and Ethnic Disparities in Healthcare, 2002 and Unequal Treatment: What Healthcare Providers Need to Know about Racial and Ethnic Disparities in Health-Care, 2002).

In addition applicants are encouraged to consider the unique needs of people in various stages of their lives, including children and adolescents.

Applicants should specify if they are applying for Option A, Option B or both. Applicants who do not specify which option(s) of activities they intend to apply for will not be considered.

Option A—National Partnerships

The objective of this Option is to foster partnerships between public health and national organizations representing the interests of health plans/insurers/health care delivery systems and organizations that focus on quality improvement. The activities in the Option should include:

• Using organizational resources to assist CDC in recognizing and understanding important emerging health systems trends that affect the public's health. Explore opportunities to use mechanisms such as accreditation, performance measurement, and financial incentives to improve health outcomes.

• Identify a focus on quality improvement through the above mechanisms.

• Develop case examples of effective health plan/health organization initiatives that utilize assessment tools (e.g., Health Risk Assessments/Appraisals etc.) to identify and stratify explicitly preventable health care conditions for a given beneficiary population. Using the information from these assessments coupled with other health information; describe promotion and deployment of innovative education/coaching, incentive-based health behavior change programs, prevention-oriented care/disease-management or similar strategies to reduce preventable disease burden and the associated health care costs in a beneficiary population. Identify programs that address CDC's Health Protection Goals for target areas. (http://www.cdc.gov/futures/Goals). Plan and execute a comprehensive plan to assess effectiveness of the outlined strategies.

• Propose conferences, meetings, seminars, or symposia that can be expected to have beneficial effects on health outcomes. CDC representatives will be part of the planning stage of these activities and as active participants in the final program.

Option B—Small-Scale Innovation Design and Evaluation

Using health care organization processes, accreditation, or certification as a framework for developing new strategies, propose small-scale exploratory activities in a preferred provider or network setting that evaluate innovative system interventions to address unrealized prevention opportunities in populations, particularly sub-populations affected by racial/ethnic disparities. Activities should incorporate at least one of the following:

• Innovative payment strategies;

• New methods of communicating prevention messages to consumers;

• Activities to increase consumer participation in shared decision-making for preventive care;

• Use of consumer “health-coaches”;

• New accreditation strategies;

• Innovations in supporting information technology infrastructure in health care settings (e.g., develop innovative strategies to improve prevention messages and services using health information technology);

• New approaches for linkages of data (e.g., medical/pharmacy/disability claims and health risk appraisal data);

• Novel incentive systems to improve prevention/health promotion; or,

• Community-based participatory models (e.g., community-based health promotion/clinical practice model) as innovative strategies to improve clinical prevention practices.

In a cooperative agreement, CDC staff is substantially involved in the program activities, above and beyond routine grant monitoring. CDC Activities for this program are as follows:

• Provide an updated list of CDC goals, priorities and mission; technical assistance; and monitoring of the progress of this cooperative agreement.

• Foster the formation and growth of national and regional public-private partnerships that support prevention research and evidence-based prevention practice.

• Assist with the development of conferences, meetings, seminars and symposia which explore and expand areas of commonality around prevention between public health and health care sectors.

II. Award Information

Type of Award: Cooperative Agreement.

Fiscal Year Funds: 2005.

Approximate Total Funding: $500,000-$700,000.

Approximate Number of Awards: three to five.

Approximate Average Award: It is expected that the average award will range from approximately $100,000 to $230,000.

Floor of Award Range: None.

Ceiling of Award Range: $230,000.

Anticipated Award Date: August 30, 2005.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

III.1. Eligible applicants

Applications may be submitted by Private and Public nonprofit organizations such as:

• Public nonprofit organizations

• Private nonprofit organizations

This announcement will be for limited competition. It is in the best interest of the government to work with organizations that have members who are from or connect to the healthcare delivery system through which CDC science is implemented. These applicants will bring expertise for collaborative activities that will assist CDC in furthering its impact goals.

Applicants should be able to work with communities and sub-populations as a non-governmental organization (NGO). Applicants should be experienced in developing all aspects of health plan initiatives. Applicants should demonstrate an expertise in promoting and disseminating innovative public education and public information interventions through health care organizations. Applicants should directly address CDC health protection goals, and impact large numbers of constituents through private sector initiatives.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “IV.3. Submission Dates and Times” for more information on deadlines.

• Please list all Options of activity proposed in the application. Applicants failing to specify Option(s) of activities will be judged as incomplete or non-responsive to the requirements listed in this section, and it will not be entered into the review process. You will be notified that your application did not meet submission requirements.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission: CDC strongly encourages you to submit your application electronically by utilizing the forms and instructions posted for this announcement on www.Grants.gov, the official Federal agencywide E-grant Web site. Only applicants who apply online are permitted to forego paper copy submission of all application forms.

Paper Submission: Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI): Your LOI must be written in the following format:

• Maximum number of pages: Two.

• Font size: 12-point unreduced.

• Double spaced.

• Paper size: 8.5 by 11 inches.

• Page margin size: One inch.

• Printed only on one side of page.

• Written in plain language, avoid jargon.

Your LOI must contain the following information:

• Your organization's intent to apply for this program announcement. Please specify if you are applying for Option A, Option B, or both. LOI that do not specify which Option(s) of activities will be judged incomplete or non-responsive to the requirements listed in this section and will not be considered for a full application review process.

Application: Electronic Submission: You may submit your application electronically at: http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform with all requirements for non-electronic submissions. If both electronic and back-up paper submissions are received by the deadline, the electronic version will be considered the official submission.

Paper Submission: If you plan to submit your application by hard copy, submit the original and two hard copies of your application by mail or express delivery service. Refer to section IV.6. Other Submission Requirements for submission address.

You must submit a project narrative with your application forms. The narrative must be submitted in the following format:

• Maximum number of pages: 20. If your narrative exceeds the page limit, only the first will be reviewed.

• Font size: 12 point unreduced.

• Double spaced.

• Paper size: 8.5 by 11 inches.

• Page margin size: One inch.

• Printed only on one side of page.

• Held together only by rubber bands or metal clips; not bound in any other way.

Your narrative should address activities to be conducted over the entire project period, and must include the following items in the order listed:

1. The activity Option(s) for which you are applying under this Program Announcement.

2. Organizational description include full description of members/affiliates and previous experience and full description of any coalition and committed co-conveners assembled for this announcement, if applicable. (Please see Section III.1. Eligible Applicants for specific eligibility information for each Option of activity).

If you are applying for more than one Option of activity, you must submit a separate description of items three to seven (below) for each Option of activity (See also allowed adjustment in page length described above).

3. Goals and Objectives

4. Methods

5. Evaluation

6. Plan for Dissemination of findings

7. Budget Justification (not included in page limit)

Additional information may be included in the application appendices. The appendices will not be counted toward the narrative page limit. This additional information can include:

• Curriculum Vitae, Resumes, Organizational Charts, Descriptions of other community activities for Option B activities, brief examples of previous experience (e.g. products), etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt1.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: July 25, 2005.

CDC requests that you send a LOI if you intend to apply for this program. Although the LOI is not required, not binding, and does not enter into the review of your subsequent application, the LOI will be used to gauge the level of interest in this program and to allow CDC to plan the application review.

Application Deadline Date: August 12, 2005.

Explanation of Deadlines: LOIs and Applications must be received in the CDC Procurement and Grants Office by 4 p.m. Eastern Time on the deadline date. If you submit your LOI and application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

Electronic Submission: If you submit your application electronically with Grants.gov, your application will be electronically time/date stamped which will serve as receipt of submission. In turn, you will receive an e-mail notice of receipt when CDC receives the application. All electronic applications must be submitted by 4 p.m. Eastern Time on the application due date.

Paper Submission: CDC will not notify you upon receipt of your paper submission. If you have a question about the receipt of your LOI or application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding Restrictions

Restrictions, which must be taken into account while writing your budget, are as follows:

• Funds may not be used for research.

• Reimbursement of pre-award costs is not allowed.

• Construction costs will not be allowed in this cooperative agreement.

• Cooperative agreement funds can not be used for food, refreshments or entertaining expenses.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or E-mail to: Frank Lochner, CDC, National Center for Health Marketing, Division of Private and Public Partnerships, 4770 Buford Highway, NE., MAILSTOP K-39, Atlanta, GA 30341. Telephone: 770-488-1124. Fax: 770-488-2553. E-mail: FLochner@cdc.gov.

Application Submission Address: Electronic Submission: CDC strongly encourages applicants to submit electronically at: http://www.Grants.gov. You will be able to download a copy of the application package from http://www.Grants.gov, complete it offline, and then upload and submit the application via the Grants.gov site. E-mail submissions will not be accepted. If you are having technical difficulties in Grants.gov, they can be reached by E-mail at http://www.support@grants.gov or by phone at 1-800-518-4726 (1-800-518-GRANTS). The Customer Support Center is open from 7 a.m. to 9 p.m. Eastern Time, Monday through Friday.

Paper Submission: If you chose to submit a paper application, submit the original and two hard copies of your application by mail or express delivery service to: Technical Information Management-RFA AA060, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

Submit your application as one; however, each activity Option that is submitted will be evaluated separately. It is possible that in the case of an application that includes both Options—one or both Options of activities may not be funded. Applicants must submit separate Goals and Objectives, Methods (including Timeline and Staffing/Personnel needs and descriptions), Evaluation, Dissemination, Letters of Support (if applicable), and Budget for each Option of activity in the application. The applicant should only include one Organizational description, unless additional information is needed for the proposed Option of activity.

Methods (35 points)

Are the proposed methods feasible? Will applicant accomplish the program goals? Are the applicant's plans for conducting the required activities realistic and feasible within existing programmatic and fiscal restrictions? Do program activities use a life-stages approach? Is a detailed timeline included which relates to the goals, objectives and methods? Does the applicant demonstrate adequate and appropriate Staffing/Personnel needs and provide a description of current and needed personnel?

Goals and Objectives (25 points)

Does the applicant clearly re-state their choice of activities listed under Option A and/or Option B? Do the proposed goals and objectives stated by the applicant meet the required activities specified under each Option of activity in the “Recipient Activities” section of this announcement? Are the goals and objectives listed measurable, specific, time-phased and realistic?

Organizational Description (15 points)

Does the applicant have an organizational structure, mission, goals and objectives, activities, functions and membership/affiliates on a national level that are consistent with the purpose of this Program Announcement? Does the applicant demonstrate past experience using a collaborative approach with health care organizations to evaluate and improve the delivery of health services or policy? Does the applicant show evidence (past or current) of research, programmatic or broad policy development work in the areas of health promotion, disease prevention, disease management, care management, quality improvement, accreditation of health care organizations, managed care or chronic care management? Does the applicant show evidence of work that focuses on racial and ethnic minorities in order to reduce health care disparities through improved prevention strategies?

Evaluation (15 points)

Has the applicant developed on-going methods for evaluating project activities that are realistic, time-framed and measurable? Does the applicant build in capacity for mid-course correction(s) based on those evaluations? Does the applicant include plans for evaluation towards stated goals and objectives which include partner/co-convener and end-user feedback? How does the applicant incorporate guidance and feedback from CDC in the project's evaluation?

Dissemination (10 points)

Does the applicant present a clear and timely plan for disseminating findings from activities? Will these dissemination plans reach members/affiliates, health care organizations, consumers and/or public health audiences? Is an array of dissemination strategies proposed based on the target audience which uses a life stages approach? Will dissemination activities be included in the project evaluation?

Statement of Applying for Option A and/or Option B Activities (Not Scored)

Please list all Options of activity proposed in the application. Applicants failing to specify Option(s) of activities will be judged as incomplete or non-responsive to the requirements listed in this section, and it will not be entered into the review process. You will be notified that your application did not meet submission requirements.

Budget (Not Scored)

Is the proposed budget for each Option of activity (and for the whole application) reasonable within the amount requested, justified by the application content, and consistent with the specifications listed in this announcement?

V.2. Review and Selection Process

Applications will be reviewed for completeness by the Procurement and Grants Office (PGO) staff and for responsiveness by the Division of Private and Public Partnerships. Incomplete applications and applications that are non-responsive to the eligibility criteria will not advance through the review process. Applicants will be notified that their application did not meet submission requirements.

An objective review panel comprised of CDC employees outside the funding center will evaluate complete and responsive applications according to the criteria listed in the “V.1. Criteria” section above.

Applications will be funded in order by score and rank determined by the review panel. CDC will provide justification for any decision to fund out of rank order.

V.3. Anticipated Announcement and Award Dates

Award date: August 30, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

An additional Certifications form from the PHS5161-1 application needs to be included in your Grants.gov electronic submission only. Refer to http://www.cdc.gov/od/pgo/funding/PHS5161-1-Certificates.pdf. Once the form is filled out attach it to your Grants.gov submission as Other Attachments Form.

The following additional requirements apply to this project:

• AR-8 Public Health System Reporting Requirements.

• AR-9 Paperwork Reduction Act Requirements.

• AR-10 Smoke-Free Workplace Requirements.

• AR-11 Healthy People 2010.

• AR-12 Lobbying Restrictions.

• AR-14 Accounting System Requirements.

• AR-15 Proof of Non-Profit Status.

• AR-20 Conference Support.

• AR-21 Small, Minority, and Women-Owned Business.

• AR-25 Release and Sharing of Data.

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report and annual progress report, no more than 90 days after the end of the budget period.

3. Final financial and performance reports, no more than 90 days after the end of the project period.

These reports must be mailed to the Grants Management Specialist listed in the “Agency Contacts” section of this announcement.

VII. Agency Contacts

We encourage inquiries concerning this announcement. For general questions, contact: Technical Information Management Section, CDC Procurement and Grants Office, 2920 Brandywine Road, Atlanta, GA 30341. Telephone: 770-488-2700.

For program technical assistance, contact: Frank Lochner, CDC, National Center for Health Marketing, Division of Private and Public Partnerships, Address: 4770 Buford Highway, MAILSTOP K-39, Atlanta, GA 30341. Telephone: 770-488-1124/2460. Fax: 770-488-2553. E-mail: FLochner@cdc.gov.

For financial, grants management, or budget assistance, contact: Angela Webb, Grants Management Specialist, CDC Procurement and Grants Office, 2920 Brandywine Road, Atlanta, GA 30341. Telephone: 770-488-2784. Fax: 770-488-2777. E-mail: aqw6@cdc.gov.

VIII. Other Information

This and other CDC funding opportunity announcements can be found on the CDC Web site, Internet address: www.cdc.gov. Click on “Funding” then “Grants and Cooperative Agreements.”

Dated: July 7, 2005.
William P. Nichols,
Director, Procurement and Grants Office, Centers for Disease Control and Prevention.

[FR Doc. 05-13734 Filed 7-12-05; 8:45 am]

BILLING CODE 4163-18-P